DEPARTMENT OF ENERGY

Federal Energy Regulatory Commission

[Project No. 2852-015]

New York State Electric & Gas Corp.; Notice Establishing Procedures for Relicensing and a Deadline for Submission of Final Amendments

March 13, 2001.

The license for the Keuka Project No. 2852, located on the Waneta and Lamoka Lakes, Keuka Lake, and Mud Creek, in Steuben and Schuyler Counties, New York, will expire on March 1, 2003. On February 27, 2001, an application for a new non-power license was filed. The following is an approximate schedule and procedures that will be followed in processing the application:

Date | Action
May 15, 2001 | Commission notifies applicant that its application has been accepted and specifies the need for additional information and due date.
May 30, 2001 | Commission issues public notice of the accepted application establishing dates for filing motions to intervene and protests.
June 30, 2001 | Commission's deadline for applicant for filing a final amendment, if any, to its application.
July 15, 2001 | Commission notifies all parties and agencies that the application is ready for environmental analysis.

Upon receipt of any additional information and the information filed in response to the public notice of the acceptance of the application, the Commission will evaluate the application in accordance with applicable statutory requirements and take appropriate action on the application.

Any questions concerning this notice should be directed to William Guey-Lee at (202) 219-2808, or email at: william.gueylee@ferc.fed.us.

David P. Boergers,
Secretary.

[FR Doc. 01-6656 Filed 3-16-01; 8:45 am]

BILLING CODE 6717-01-M